DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Name: Advisory Board on Radiation and Worker Health (ABRWH), National Institute for Occupational Safety and Health (NIOSH) and Subcommittee for Dose Reconstruction and Site Profile Reviews, ABRWH.

Subcommittee Meeting Time and Date: 10 a.m.-5 p.m., CT, August 24, 2005.

Committee Meeting Times and Dates: 8:30 a.m.-5 p.m., CT, August 25, 2005. 8:30 a.m.-4:30 p.m., CT, August 26, 2005.

Place: Westin St. Louis Hotel, 811 Spruce Street, St. Louis, Missouri, telephone 314-621-2000, fax 314-552-5700.

Status: Open to the public, limited only by the space available. The meeting space accommodates approximately 100 people. A closed portion of the meeting will held on August 25, 2005, CT 1 p.m. to 3 p.m.

Background: The ABRWH was established under the Energy Employees Occupational Illness Compensation Program Act (EEOICPA) of 2000 to advise the President on a variety of policy and technical functions required to implement and effectively manage the new compensation program. Key functions of the Board include providing advice on the development of probability of causation guidelines which have been promulgated by Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC).

In December 2000, the President delegated responsibility for funding, staffing, and operating the Board to HHS, which subsequently delegated this authority to the CDC. NIOSH implements this responsibility for CDC. The charter was issued on August 3, 2001, and renewed on July 27, 2005.

Purpose: This board is charged with (a) Providing advice to the Secretary, HHS on the development of guidelines under Executive Order 13179; (b) providing advice to the Secretary, HHS on the scientific validity and quality of dose reconstruction efforts performed for this Program; and (c) upon request by the Secretary, HHS advise the Secretary on whether the is a class of employees at any Department of Energy facility who were exposed to radiation but for whom it is not feasible to estimate their radiation dose, and on whether there is reasonable likelihood that such radiation doses may have endangered the health of members of this class.

Matters To Be Discussed: The agenda for the subcommittee meeting is the Bethlehem Site Profile; Selection of the 4th round of 20 dose reconstructions; Mallinckrodt Site Profile Review; and a discussion of Site Profile Candidates for review by the S. Cohen and Associates (SC&A). The agenda for the Board meeting will include reports from the Subcommittee meeting; the Mallinckrodt SEC petition; a heads-up on upcoming SEC petitions under § 83.14 of the SEC rule (42 CFR 83); and policy on SC&A Capitol Hill visits. The Board will convene in closed session on August 25, 2005 from 1 p.m. to 3 p.m. CT. The closed session will involve finalization of work tasks for the SC&A Contract for the next fiscal year. There will be a general public comment period scheduled for August 25, 2005 from 7 p.m. to 8:30 p.m. CT.

A portion of the meeting will be closed to the public in accordance with provisions set forth regarding subject matter considered confidential under the terms of 5 U.S.C. 552b(c)(9)(B), and the Determination of the Director of the Management and Services Office, Centers for Disease Control and Prevention, pursuant to Pub. L. 92-463.

The agenda is subject to change as priorities dictate.

In the event an individual cannot attend, written comments may be submitted. Any written comments received will be provided at the meeting and should be submitted to the contact person below well in advance of the meeting.

Contact Person For More Information: Dr. Lewis V. Wade, Executive Secretary, NIOSH, CDC, 4676 Columbia Parkway, Cincinnati, Ohio 45226, telephone 513-533-6825, fax 513-533-6826.

Due to programmatic issues that had to be resolved, the Federal Register notice is being published less than fifteen days before the date of the meeting.

The Director, Management Analysis and Services Office, has been delegated the authority to sign Federal Register notices pertaining to announcements of meetings and other committee management activities for both CDC and the Agency for Toxic Substances and Disease Registry.

Dated: August 16, 2005.
Alvin Hall,
Director, Management Analysis and Services Office, Centers for Disease Control Prevention.

[FR Doc. 05-16637 Filed 8-22-05; 8:45 am]

BILLING CODE 4163-18-M